DEPARTMENT OF TRANSPORTATION

Federal Aviation Administration

14 CFR Part 71

[Docket No. FAA-2011-0010; Airspace Docket No. 11-AAL-1]

RIN 2120-AA66

Amendment of Federal Airways; Alaska

AGENCY: Federal Aviation Administration (FAA), DOT.

ACTION: Final rule.

SUMMARY: This action amends all Anchorage, AK, Federal airways that are affected by the relocation of the Anchorage VHF Omnidirectional Range (VOR) navigation aid. This action is necessary for the safety and management of Instrument Flight Rules (IFR) within the National Airspace System.

DATES: Effective date 0901 UTC, June 30, 2011. The Director of the Federal Register approves this incorporation by reference action under 1 CFR part 51, subject to the annual revision of FAA Order 7400.9 and publication of conforming amendments.

FOR FURTHER INFORMATION CONTACT: Ken McElroy, Airspace, Regulations and ATC Procedures Group, Office of Airspace Services, Federal Aviation Administration, 800 Independence Avenue, SW., Washington, DC 20591; telephone: (202) 267-8783.

SUPPLEMENTARY INFORMATION:

History

On March 4, 2011, the FAA published in the Federal Register a notice of proposed rulemaking (NPRM) to amend Federal airways in Alaska, (76 FR 11978). Interested parties were invited to participate in this rulemaking effort by submitting written comments on the proposal. One comment was received objecting to the cost of relocating the Anchorage VOR because the relocation results from the construction of a wind farm by the Cook Inlet Regional Native Corporation. This commenter believes that the wind farm, built in part with government grants, is a “waste of taxpayer dollars”, and that the FAA should not cooperate with the Cook Inlet Regional Native Corporation by moving the VOR. The FAA notes that the agency has not been involved in the decision process related to the wind farm's location or funding. The responsibility of the FAA is to provide navigation aids to assure safe flight of aircraft, and this requires relocating the VOR. During the comment period, the FAA conducted flight inspections of the proposed routes and reviewed the results to evaluate the safety and efficiency of the proposed routes. Based on the results of the inspections, and on further refinements to the route designs, the FAA determined that a change was required to the description of Q-45 by adding the NONDA fix to the route. With the exception of the change described above, this amendment is the same as that proposed in the NPRM.

The Rule

This action amends Title 14 Code of Federal Regulations (14 CFR) part 71 amending Federal airways that currently use the Anchorage (ANC) VOR located on Fire Island, AK. The ANC VOR was upgraded to a Doppler VOR and redesignated as the Anchorage (TED) VOR.

The TED VOR was moved onto the Ted Stevens Anchorage International Airport property affecting 15 Low Altitude Federal airways (Victor Airways and T-Routes), and 14 High Altitude Federal airways (Jet Routes and Q-Routes). In addition to these airways using the TED VOR as the new reference point, the descriptions were adjusted, where necessary, to show new radials to describe airway intersections.

VOR Federal airways, United States Area Navigation Routes (low), Jet Routes, Alaska Area Navigation Routes, and United States Area Navigation Routes (high), are published in paragraphs 6010, 6011, 2004, 2005, and 2006, respectively, of FAA Order 7400.9U, dated August 18, 2010 and effective September 15, 2010, which is incorporated by reference in 14 CFR 71.1. The Federal airways listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends Federal airways in Alaska.

Environmental Review

The FAA has determined that this action qualifies for categorical exclusion under the National Environmental Policy Act in accordance with FAA Order 1050.1E, Environmental Impacts: Polices and Procedures paragraph 311a This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9U, Airspace Designations and Reporting Points, dated August 18, 2010, and effective September 15, 2010, is amended as follows:

Paragraph 6010 VOR Federal airways.

* * * * *

V-319 [Amended]

From Yakutat, AK, via Johnstone Point, AK, INT Johnstone Point 291° and Anchorage, AK, 125° radials; Anchorage, AK; Sparrevohn, AK; Bethel, AK; Hooper Bay, AK; to Nanwak, AK, NDB.

V-320 [Amended]

From Anchorage, AK, INT Anchorage 133° and Johnstone Point, AK, 271° radials; to Johnstone Point.

* * * * *

V-388 [Amended]

From Anchorage, AK, to INT Anchorage 208° and Kenai, AK, 067° Kenai, AK.

* * * * *

V-427 [Amended]

From King Salmon, AK, to INT King Salmon 042° and Anchorage, AK, 247° radials.

* * * * *

V-436 [Amended]

From Anchorage, AK, via INT Anchorage 335° and Talkeetna, AK, 195° (T)/176° (M) radials; Talkeetna; Nenana, AK; Chandalar Lake, AK, NDB; to Deadhorse, AK.

* * * * *

V-438 [Amended]

From Kodiak, AK, via Homer, AK; Anchorage, AK; Big Lake, AK; Fairbanks, AK; Fort Yukon, AK; Deadhorse, AK; to Barrow, AK.

* * * * *

V-440 [Amended]

From Nome, AK, via Unalakleet, AK; to McGrath, AK; Anchorage, AK; Middleton Island, AK; Yakutat, AK; Biorka Island, AK; to Sandspit, BC. To Victoria, BC, Canada. The airspace within Canada is excluded.

V-441 [Amended]

From Middleton Island, AK, via the INT of Middleton Island, AK 298° and Anchorage 171° radials to Anchorage, AK.

* * * * *

V-462 [Amended]

From Cape Newenham, AK, NDB via Dillingham, AK; to INT Dillingham 059° and Anchorage, AK 247° radials to Anchorage, AK.

* * * * *

V-510 [Amended]

From Emmonak, AK via Anvik, AK, NDB; McGrath, AK, INT McGrath 121° and Big Lake, AK 294° radials; Big Lake.

Paragraph 6011 United States Area Navigation Routes (T-Routes)

* * * * *

T-223 EHM to TED [Amended]
EHM | NDB/DME | (Lat. 58°39′24″ N., long. 162°04′17″ W.)
DLG | VOR/DME | (Lat. 58°59′39″ N., long. 158°33′08″ W.)
NONDA | Fix | (Lat. 60°19′16″ N., long. 153°47′58″ W.)
TED | VOR/DME | (Lat. 61°10′04″ N., long. 149°57′37″ W.)
* * * * * * *
T-227 SYA to SCC [Amended]
SYA | VORTAC | (Lat. 52°43′06″ N., long. 174°03′44″ E.)
JANNT | WP | (Lat. 52°04′18″ N., long. 178°15′37″ W.)
BAERE | WP | (Lat. 52°12′12″ N., long. 176°08′09″ W.)
ALEUT | Fix | (Lat. 54°14′17″ N., long. 166°32′52″ W.)
MORDI | Fix | (Lat. 54°52′50″ N., long. 165°03′15″ W.)
GENFU | Fix | (Lat. 55°23′18″ N., long. 163°06′21″ W.)
BINAL | Fix | (Lat. 55°46′00″ N., long. 161°59′56″ W.)
PDN | NDB/DME | (Lat. 56°57′15″ N., long. 158°38′51″ W.)
BATTY | Fix | (Lat. 59°03′57″ N., long. 155°04′42″ W.)
AMOTT | Fix | (Lat. 60°52′27″ N., long. 151°22′24″ W.)
BGQ | VORTAC | (Lat. 61°34′10″ N., long. 149°58′02″ W.)
FAI | VORTAC | (Lat. 64°48′00″ N., long. 148°00′43″ W.)
SCC | VOR/DME | (Lat. 70°11′57″ N., long. 148°24′58″ W.)
* * * * * * *
T-244 OME to TED [Amended]
OME | VOR/DME | (Lat. 64°29′06″ N., long. 165°15′11″ W.)
TED | VOR/DME | (Lat. 61°10′04″ N., long. 149°57′37″ W.)
* * * * * * *
T-246 BRW to TED [Amended]
BRW | VOR/DME | (Lat. 71°16′24″ N., long. 156°47′17″ W.)
GAL | VOR/DME | (Lat. 64°44′17″ N., long. 156°46′38″ W.)
MCG | VORTAC | (Lat. 62°57′04″ N., long. 155°36′41″ W.)
TED | VOR/DME | (Lat. 61°10′04″ N., long. 149°57′37″ W.)
* * * * * * *
T-269 ANN to BET [Amended]
ANN | VOR/DME | (Lat. 55°03′37″ N., long. 131°34′42″ W.)
BKA | VORTAC | (Lat. 56°51′34″ N., long. 135°33′05″ W.)
YAK | VOR/DME | (Lat. 59°30′39″ N., long. 139°38′53″ W.)
JOH | VOR/DME | (Lat. 60°28′51″ N., long. 146°35′58″ W.)
TED | VOR/DME | (Lat. 61°10′04″ N., long. 149°57′37″ W.)
SQA | VOR/DME | (Lat. 61°05′55″ N., long. 155°38′04″ W.)
BET | VORTAC | (Lat. 60°47′05″ N., long. 161°49′28″ W.)

* * * * *

Paragraph 2004 Jet Routes.

* * * * *

J-115 [Amended]

From Shemya, AK, NDB; Mount Moffett, AK, NDB; Dutch Harbor, AK, NDB; Cold Bay, AK; King Salmon, AK; INT King Salmon 053° and Kenai, AK, 239° radials; Kenai; Anchorage, AK; Big Lake, AK; Fairbanks, AK; Chandalar, AK, NDB; to Deadhorse, AK.

* * * * *

J-124 [Amended]

From Big Lake, AK, via Gulkana, AK; to Northway, AK.

J-125 [Amended]

From Kodiak, AK, via Anchorage, AK; INT Anchorage 335° and Talkeetna, AK, 195° radials; Talkeetna; to Nenana, AK.

* * * * *

J-127 [Amended]

From King Salmon, AK; to INT King Salmon 042° and Anchorage, AK, 247° radials.

* * * * *

J-133 [Amended]

From Galena, AK, via Anchorage, AK; Johnstone Point, AK; Orca Bay, AK NDB; via INT Orca Bay NDB 114° and Sitka, AK NDB 308° bearings, to Sitka, AK NDB.

* * * * *

J-511 [Amended]

From Dillingham, AK; via INT Dillingham 059° and Anchorage, AK 247° radials, to Anchorage, AK; Gulkana, AK; to Burwash Landing, YT, Canada, NDB, excluding the portion which lies over Canadian territory.

* * * * *

Paragraph 2005 Alaska Area Navigation Routes.

* * * * *

J-804R Anchorage, AK, to FRIED [Amended]

Waypoint name | Location | Reference facility
Anchorage, AK | 61°10′04″ N., 149°57′37″ W. | Anchorage, AK.
NOWEL | 60°29′02″ N., 148°28′31″ W. | Middleton Island, AK.
Middleton Island, AK | 59°25′19″ N., 146°21′00″ W. | Middleton Island, AK.
SNOUT | 57°53′26″ N., 141°45′19″ W. | Yakutat, AK.
EEDEN | 55°53′59″ N., 137°00′06″ W. | Biorka Island, AK.
FRIED | 54°13′19″ N., 133°37′57″ W. | Annette Island, AK.

* * * * *

J-889R NOWELL to LAIRE [Amended]

Waypoint name | Location | Reference facility
NOWEL | 60°29′02″ N., 148°28′31″ W. | Anchorage, AK.
ARISE | 60°00′00″ N., 146°09′13″ W. | Middleton Island, AK.
KONKS | 59°33′02″ N., 144°00′07″ W. | Middleton Island, AK.
LAIRE | 58°48′15″ N., 140°31′43″ W. | Yakutat, AK.

* * * * *

Paragraph 2006 Alaska Area Navigation Routes (Q-Routes).

* * * * *

Q-8 GAL to TED [Amended]
GAL | VORTAC | (Lat. 64°44′17″ N., long. 156°46′38″ W.)
TED | VOR/DME | (Lat. 61°10′04″ N., long. 149°57′37″ W.)
* * * * * * *
Q-43 TED to FAI [Amended]
TED | VOR/DME | (Lat. 61°10′04″ N., long. 149°57′37″ W.)
BGQ | VORTAC | (Lat. 61°34′10″ N., long. 149°58′02″ W.)
FAI | VORTAC | (Lat. 64°48′00″ N., long. 148°00′43″ W.)
Q-44 OME to TED [Amended]
OME | VOR/DME | (Lat. 64°29′06″ N., long. 165°15′11″ W.)
TED | VOR/DME | (Lat. 61°10′04″ N., long. 149°57′37″ W.)
Q-45 DLG to AMOTT [Amended]
DLG | VOR/DME | (Lat. 58°59′39″ N., long. 158°33′08″ W.)
NONDA | Fix | (Lat. 60°19′16″ N., long. 153°47′58″ W.)
AMOTT | Fix | (Lat. 60°52′27″ N., long. 151°22′24″ W.)
* * * * * * *
Q-47 AKN to AMOTT [Amended]
AKN | VORTAC | (Lat. 58°43′29″ N., long. 156°45′08″ W.)
AMOTT | Fix | (Lat. 60°52′27″ N., long. 151°22′24″ W.)
* * * * *
Q-49 ODK to AMOTT [Amended]
ODK | VOR/DME | (Lat. 57°46′30″ N., long. 152°20′23″ W.)
AMOTT | Fix | (Lat. 60°52′27″ N., long. 151°22′24″ W.)

Issued in Washington, DC, on April 19, 2011.
Gary A. Norek,
Acting Manager, Airspace, Regulation and ATC Procedure Group.

[FR Doc. 2011-10240 Filed 4-27-11; 8:45 am]

BILLING CODE 4910-13-P